DEPARTMENT OF TRANSPORTATION

Federal Aviation Administration

Associate Administrator for Commercial Space Transportation Notice of Availability and Request for Comment on a Draft Supplemental Environmental Assessment (EA) for the East Kern Airport District (EKAD) Launch Site Operator License for the Mojave Airport, CA

AGENCY: Federal Aviation Administration (FAA), Associate Administrator for Commercial Space Transportation (AST) prepared the Draft Supplemental EA.

ACTION: Notice of availability and request for comment.

SUMMARY: In accordance with National Environmental Policy Act (NEPA) regulations, the FAA is initiating a public review and comment period for a Draft Supplemental EA. In February 2004, the FAA released a Final Environmental Assessment for the East Kern Airport District Launch Site Operator License for the Mojave Airport, which analyzed the environmental impacts of operating a launch site at the Mojave Airport in Mojave, California. The February 2004 EA was prepared to support an application from EKAD to operate a licensed launch facility at the Mojave Airport. Two types of launch vehicles were included in the analysis as typical vehicles that would operate from the Mojave Airport. The first vehicle type, referred to in the EA as Concept A, includes air-drop designs where two vehicles, an airplane and a launch vehicle are mated together, and the airplane carries the launch vehicle to a predetermined altitude where the launch vehicle is dropped and its rocket engines ignite. The second vehicle type referred to in the EA as Concept B includes horizontally launched vehicles, which use rocket power to takeoff from a standard aviation runway.

The FAA issued a launch license to Scaled Composites, Limited Liability Corporation (LLC) on April 7, 2004 for launches of the SpaceShipOne vehicle, which is similar to Concept A launch vehicles described and analyzed in the February 2004 EA. The February 2004 EA considered the environmental impacts of launching up to six (6) Concept A launch vehicles from the Mojave Airport in 2004. To ensure that Scaled Composites and other potential Concept A vehicle operators would have maximum flexibility in using the Mojave Airport to support their launch programs, the Draft Supplemental EA considers the environmental impacts of four (4) additional Concept A launches in 2004 for a maximum of 10 launches in 2004. The Draft Supplemental EA considers the cumulative impacts of the six (6) previously analyzed launches, the four (4) additional launches of Concept A vehicles, and other existing and proposed operations at the Mojave Airport.

DATES: The public comment period for the NEPA process begins with the publication of this notice and request for comment in the Federal Register. To ensure that all comments can be addressed in the Final Supplemental EA, comments must be received by the FAA no later than November 24, 2004.

Copies of the Draft Supplemental EA will be made available at the following libraries:

• Edwards Air Force Base Library

• Kern County Library (Boron, California City, Mojave, and Tehachapi Branches)

• Kern River Valley Library (Lake Isabella and Rosamond Branches)

• Palmdale City Library

A downloadable electronic version of the Draft Supplemental EA is available on the FAA Internet site http://ast.faa.gov.

FOR FURTHER INFORMATION CONTACT: Written and oral comments regarding the Draft Supplemental EA should be submitted to, Mr. Doug Graham, FAA Environmental Specialist, Mojave Airport Supplemental EA, c/o ICF Consulting, 9300 Lee Highway, Fairfax, VA 22031; e-mail mojave.sea@icfconsulting.com; or fax (703) 934-3951.

Additional Information: The purpose of the proposed action is to offer the Mojave Airport as an alternative location to Federal facilities or other commercial sites for launches of horizontal launch vehicles. This is consistent with the FAA's mission to ensure protection of the public, property, and the national security and foreign policy interests of the U.S., in the event of a commercial launch or reentry activity, and to encourage, facilitate, and promote U.S. commercial space transportation. Launches of SpaceShipOne and other Concept A launch vehicles from the Mojave Airport are needed to help meet the increasing demand for access to space. This demand for access to space cannot be met solely by the National Aeronautics and Space Administration (NASA) or Department of Defense (DoD). As the demand continues to increase it is conceivable that more than six (6) launches of Concept A launch vehicles may be required in 2004.

At this time, SpaceShipOne is the only operational Concept A vehicle that can launch from the Mojave Airport. Scaled Composites has notified EKAD that they may need to conduct up to 10 launches in 2004. The proposed action in the Draft Supplemental EA is for the FAA to license up to four (4) additional launches of Concept A vehicles from the Mojave Airport in 2004. There are no Concept B launches proposed in 2004. This would bring the maximum total number of launches of Concept A vehicles to 10 for 2004. Neither Scaled Composites, nor any other potential Concept A vehicle operator has identified a need to conduct more than six (6) launches per year in the years 2005 to 2008. Because there is no reasonably foreseeable need to conduct more than six (6) launches per year in 2005 to 2008, no additional launches are considered in subsequent years and the number of launches would remain as described in the February 2004 EA.

No construction activities are proposed as part of this proposed action. Existing infrastructure, including hangars and runways, would be used to support launch and landing operations at the airport.

Concept A launch operators would coordinate with the Mojave Airport and air traffic control towers in accordance with existing protocols prior to conducting launches and landings at the Mojave Airport.

Under the no action alternative, the FAA would not increase the number of licensed launches of Concept A vehicles. As analyzed in the February 2004 EA, six (6) total launches of Concept A vehicles could occur from the Mojave Airport in 2004; however, the four (4) additional proposed launches would not occur.

Potential impacts of the proposed action and no action alternative were analyzed in the Draft Supplemental EA. Potential environmental impacts of successful launches include impacts to air quality, airspace, biological resources, cultural resources, health and safety, hazardous materials and hazardous waste, geology and soils, land use, noise, socioeconomics and environmental justice, transportation, visual and aesthetic resources, and water resources. The impacts of the no action alternative would be the same as those described in the February 2004 EA.

Potential cumulative impacts of proposed action are also addressed in the Draft Supplemental EA.

Date Issued: October 18, 2004. Washington, DC.
Herbert Bachner,
Manager, Space Systems Development Division.

[FR Doc. 04-23669 Filed 10-21-04; 8:45 am]

BILLING CODE 4910-13-P